DEPARTMENT OF ENERGY

Office of Energy Efficiency and Renewable Energy

10 CFR Part 490

Alternative Fuel Transportation Program; Alternative Compliance

AGENCY: Office of Energy Efficiency and Renewable Energy, Department of Energy.

ACTION: Notice of availability of Alternative Compliance Guidelines for preparing and submitting a waiver request and other documentation requirements.

SUMMARY: This notice announces the availability of a Department of Energy (DOE) document that provides guidelines to fleets covered by 10 CFR Part 490 (covered fleets) for submission of an application for a waiver from the alternative fuel vehicle acquisition requirements. In order to obtain a waiver, the requesting covered fleet must show that in lieu of the alternative fuel vehicle acquisitions, it will reduce petroleum consumption in its vehicle fleet by an amount that would equal 100 percent alternative fuel use in all of its existing covered light-duty vehicles. The guidelines provide instructions on making such a showing and illustrate the processing of a waiver request.

ADDRESSES: U.S. Department of Energy, Office of Energy Efficiency and Renewable Energy, Office of FreedomCAR and Vehicle Technologies, EE-2G, 1000 Independence Avenue, SW., Washington, DC 20585-0121.

The entire document with complete instructions for interested parties, Alternative Compliance: Guidelines for Preparing and Submitting a Waiver Request and Other Documentation Requirements, 10 CFR Part 490 Subpart I, may be found at the Web site address: http://www.eere.energy.gov/vehiclesandfuels/epact/state/state_resources.html, and is available from Ms. Linda Bluestein, U.S. Department of Energy, Office of FreedomCAR and Vehicle Technologies, EE-2G, Room 5F034, 1000 Independence Avenue, SW., Washington, DC 20585-0121, and by telephone at (202) 586-6116.

FOR FURTHER INFORMATION CONTACT: Ms. Linda Bluestein on (202) 586-6116 or linda.bluestein@ee.doe.gov.

SUPPLEMENTARY INFORMATION: Section 703 of the Energy Policy Act of 2005 (Pub. L. No. 109-58) added section 514, Alternative Compliance, to title V of the Energy Policy Act of 1992. (42 U.S.C. 13263a) DOE initiated a rulemaking to implement section 514 of the Energy Policy Act of 1992, as amended, (71 FR 36034; June 23, 2006) and published a final rule on March 20, 2007. 72 FR 12958. New Subpart I adds a new compliance option for covered fleets. The option allows a covered fleet to apply to DOE for a waiver from the original alternative fueled vehicle (AFV) acquisition program if it can demonstrate petroleum reduction equal to 100 percent alternative fuel use in covered light-duty vehicles cumulatively acquired by its fleet.

If a covered fleet intends to apply for a waiver, it must file its intent to request a waiver to DOE no later than March 31 of the calendar year before the model year for which the fleet is making its request. For model year 2008, however, the first year covered fleets are eligible for such waivers, the deadline for covered fleets to file an intent to make a waiver application is extended until May 31, 2007. The completed waiver application must be submitted to DOE by June 30 if the information is not dependent on new light-duty vehicle model year information. If the information is dependent on such information, the request must be submitted by July 31. A waiver request must include a minimum amount of data in order for DOE to make a decision about granting the waiver.

The DOE document Alternative Compliance: Preparing and Submitting a Waiver Request and Other Documentation Requirements, 10 CFR Part 490 Subpart I, helps requesting covered fleets by illustrating the data and information requirements as well as DOE's implementation of the waiver provision.

The guidelines include information for covered fleets regarding timing of waiver requests and responses by DOE, waiver documentation and submission requirements, annual reporting of petroleum reductions, use of credits and rollover of excess petroleum reduction, enforcement authority, record retention and appeals.

Issued in Washington, DC, on April 9, 2007.
Alexander A. Karsner,
Assistant Secretary, Energy Efficiency and Renewable Energy.

[FR Doc. E7-7133 Filed 4-13-07; 8:45 am]

BILLING CODE 6450-01-P